DEPARTMENT OF TRANSPORTATION

Federal Highway Administration

IntelliDrive℠ ¹ Performance Measurement and Performance-Based Management Demonstrations; Request for Information

¹ IntelliDrive is a service mark of the U.S. Department of Transportation.

AGENCY: Federal Highway Administration (FHWA), DOT.

ACTION: Notice.

SUMMARY: This notice is a Request for Information (RFI) and comments that will be used to help refine the plans for one or more demonstrations focused on the use of IntelliDrive℠ data sources for performance measurement and performance-based management. The FHWA is issuing this RFI in collaboration with and on behalf of other agencies within the DOT, specifically the Federal Transit Administration, the Federal Motor Carrier Safety Administration, and the Research and Innovative Technology Administration. Feedback and comments on any aspect of the RFI are welcomed from all interested public, private, and academic entities. While all feedback is welcomed, DOT is particularly interested in feedback on the questions provided in the last section of this RFI.

RFI Guidelines: Responses to this RFI should be submitted by 11:59 p.m. Eastern Time on September 8, 2010. Responses to this RFI should be delivered electronically as an e-mail or as an attachment to an e-mail sent to DMAdemo@dot.gov.

Responses to this notice are not offers and cannot be accepted by the Government to form a binding contract or issue a grant. Information obtained as a result of this RFI may be used by the government for program planning on a non-attribution basis. If you wish to submit any information under a claim of confidentiality, you should submit via e-mail to the address given below under FOR FURTHER INFORMATION CONTACT, your complete submission, including the information you claim to be confidential commercial information. When you submit information containing information identified as confidential commercial information, you should include a cover letter setting forth the reasons you believe the information qualifies as “confidential commercial information.” (49 CFR 7.13(c)(4) and 7.17) If we receive a request to examine or copy this information, we treat it as any other request under the Freedom of Information Act (5 U.S.C. 552), but we will process the request in accordance with the procedures found in 49 CFR 7.17.

FOR FURTHER INFORMATION CONTACT: For questions about the program discussed herein, contact Mr. Robert Rupert, Transportation Information Management Team, FHWA Office of Operations, (202) 366-2194, robert.rupert@dot.gov. For legal questions, interpretations and counsel, please contact Sheryl Williams, Office of the Chief Counsel, (202) 366-0618, sheryl.williams@dot.gov, 1200 New Jersey Avenue, SE., Washington, DC 20590. Office hours for the FHWA are from 7:45 a.m. to 4:15 p.m., e.t., Monday through Friday, except Federal holidays. Additional information about the IntelliDrive℠ initiative is at http://www.its.dot.gov/intellidrive/.

SUPPLEMENTARY INFORMATION: The DOT IntelliDrive℠ program is a multimodal initiative that aims to enable safe, interoperable networked wireless communications among vehicles, the infrastructure, and travelers' personal communications devices. IntelliDrive℠ research is being sponsored by the DOT and others to leverage the potentially transformative capabilities of wireless technology to make surface transportation safer, smarter, and greener. One component of this initiative is the Dynamic Mobility Applications program. This program seeks to identify, develop, and deploy applications that leverage the full potential of connected vehicles, travelers, and infrastructure in order to enhance current operational practices and transform future surface transportation systems management.

The Dynamic Mobility Applications program will include one or more field demonstrations of applications that integrate IntelliDrive℠ data to support multi-modal performance measurement and performance-based management. The applications are envisioned to include support for both real-time and non real-time decisionmaking and operations. The intent is to conduct one or more demonstrations that include mobility and productivity performance measurement as a cornerstone element of the demonstration plan. Demonstrations selected in this effort will focus on the data collection and processing to produce performance metrics in one, or preferably more, of the following areas:

• Productivity.

• Mobility, including impact on freight movements.

• Livability/Accessibility (accessibility is defined as the ability to reach goods, services and activities).

• Environment/fuel use.

• Pavement conditions (e.g., snow or ice cover, surface roughness, pothole detection).

The DOT seeks comments and innovative ideas from the public sector, private sector, and academic communities concerning the demonstration program described in this RFI. While comments are welcomed on any area of the RFI, the DOT is particularly interested in responses to the questions listed at the end of this RFI.

Dynamic Mobility Applications Demonstration Program Description

This program envisions one or more demonstrations beginning in 2011. The intent of these near-term demonstrations is to begin work with private companies, States, transit agencies, and commercial vehicle operators or freight shippers to develop applications utilizing data captured from multiple sources (e.g., vehicles, travelers, infrastructure) across all elements of the surface transportation system (i.e., transit, freeway, arterial, parking facilities and tollways) to support performance measurement and performance-based management. This demonstration effort aims to leverage existing operational capabilities or to spur innovation among early adopters of innovative performance measurement and mobility applications. The limited number of resources and the short lead time for this effort precludes the large-scale deployment of new in-vehicle or roadside technologies. Therefore, unless a site already has a deployed Dedicated Short Range Communications (DSRC) infrastructure, it is anticipated that any required mobile communications will use existing commercial wireless services.

The performance measurement demonstration(s) should address the following research questions:

• Can system productivity and traveler mobility be characterized in innovative and meaningful new ways by integrating emerging data sources (i.e., vehicles and mobile devices as data sources)?

• To what extent can IntelliDrive℠ be used to support real-time performance-based management of roadways, transit systems, and freight carriers?

• What are the institutional, legal, and technical issues that may help or hinder the use of IntelliDrive℠ to improve performance-based management?

• What wireless and other communications media can be combined to make large-scale data capture and mobility applications cost effective?

• How can diverse data sources be efficiently integrated and utilized?

• Can customer satisfaction with demonstrated applications be identified?

Proposed Performance Measurement Demonstration Program Requirements

All candidate sites and prospective partners will be required to address the following fundamental aspects of the Performance Measurement Demonstration vision, including:

• Performance measurement. Well-defined, quantitative performance measures and a clear strategy for evaluating these impacts must be a part of any candidate demonstration. Preliminary thinking on possible measures of interest is provided later in this RFI. More specific guidance will be included in the solicitation. System productivity measures will quantify the efficient movement of travelers and goods under periods of peak demand. Traveler mobility measures will quantify travel delay and improved travel reliability. This specifically includes mobility or accessibility assessments for travelers who utilize transit as a component of end-to-end trip-making. Other measures will characterize the reliability of freight/goods movement within the system. Additional performance areas such as accessibility, environment/fuel use, and pavement conditions should also be considered.

• Multi-source data capture. Demonstrations should feature frequent capture and systematic integration of data from a broad range of sources. Desired sources should include multiple types of infrastructure-based sensors, transit vehicle systems (bus and rail), a full range of vehicle types acting as mobile probes (including freight carriers and transit vehicles), and travelers moving between modes as they complete trips.

• Innovative decision support applications. These applications should exploit the value of integrated multisource performance data. Applications selected for demonstration should fully and cost effectively leverage captured data to provide innovative services to multiple users. The primary focus is on providing decision support tools (both real-time and non real-time) to traffic managers and transit operators. As a secondary objective, demonstrations may also provide mobility applications targeted at system users, including freight carriers and multimodal travelers. To the greatest extent possible, it is the intent of the Dynamic Mobility Applications Program to make algorithms and source code associated with new applications or application enhancements funded as a part of these demonstrations to be made freely available under open source agreements.

• Critical mass demonstration. Demonstrations should be scoped to be conducted in operational multifacility, multimodal transportation networks spanning urban areas or in interurban corridors. Demonstrations set in laboratory or closed facility test environments are precluded from consideration. Preference will be shown to demonstration proposals combining data drawn from large contemporaneous populations of vehicles or travelers with mobile devices participating as mobile probes concurrently with fixed infrastructure-based sensor systems.

• Complex Environment. System performance in each demonstration will be characterized in complex networks containing multiple facility types (e.g., freeway, arterial, parking, transit bus, and rail), considering both the quantity and quality of travelers and goods movement supported by the system in end-to-end trip-making across multiple facilities and modes.

• No driver distraction effects. Demonstrated applications will involve collection of information from moving vehicles. The information collection must be conducted in a manner that will not distract drivers or compromise safety. This demonstration will not include applications that require driver interaction while a vehicle is in motion. See http://www.distraction.gov for additional information on distracted driving.

• Data sharing. A required element of the demonstration(s) is the systematic collection of data (from both mobile and fixed sources). It is the intent to provide open access to these data through the IntelliDrive℠ Data Capture and Management program. These data may be made available as the demonstration is conducted, or made available shortly after the conclusion of the demonstration. These data are intended to support research activity and mobility application development in later phases of the Dynamic Mobility Applications program. If necessary, data may be transformed or aggregated to protect privacy, and the Government will consider allowing transformation or aggregation to protect intellectual property rights.

• Independent Evaluation. Demonstrations must contain an impacts evaluation and target user satisfaction assessment for each tested application. An independent evaluation contractor will assist in planning and executing an evaluation plan and will author a national evaluation report.

• Use of Standards. Demonstration projects shall make appropriate use of ITS standards for information exchange.

The demonstration(s) should collect the data and implement applications that can calculate the following types of performance metrics and, where appropriate, include applications for acting on the real-time measurement information.

Mode-Independent Overall System Measures. A key element of the demonstration will be the characterization and quantitative measurement of the performance of the overall surface transportation system. This includes the assessment of system performance based on the collective experience of travelers within the system and the ability of the system to efficiently transport people and goods. Measures of interest at the system level include:

• System Delay is travel time in excess of some subjective minimum travel time, or the trip-weighted average delay for corridor, region, or system.

• System Travel Time Reliability represented by the Planning Time Index which is the ratio of the 95th percentile travel time to the travel time under zero-delay conditions, by origin/destination pair, by time period, weighted by trip volume.

• System Throughput is intended to quantify the total number of people and goods transported reliably through the system over a period of peak transportation demand. While there are well established point measures, there is no consensus on a system-wide measure; therefore, innovative ideas for system-wide measures are sought.

Trip-based travel time will likely be a key data element required for all of these measures of interest.

Traffic Measures. Traffic measures of interest characterize performance in a range of conditions, from key bottlenecks, to specific facilities, in freeway/arterial corridors, and in subnetworks (e.g., an arterial grid or freeway network). Both real-time and non real-time measures are sought, including:

• Congested Hours.

• Delay.

• Travel Time Reliability, including the Travel Time Index and the Planning Time Index

• Throughput.

• Speed.

While measures based on road segment are of interest, trip-based measures are of particular interest since such information cannot be easily collected today.

Transit Measures. Real-time and non real-time measures are sought for transit, including measures that apply to fixed-route bus, paratransit, and rail systems:

• Ridership.

• Mode share.

• Passenger throughput.

• Travel time/speed.

• Travel time variability.

• Schedule/headway adherence.

• Delay.

• Station/stop dwell time.

• Miles between transit vehicle failures.

• Revenue miles per vehicle.

• Revenue hours per vehicle.

• Passengers per revenue vehicle-mile.

• Passenger wait time for pickup.

• Passenger and driver no shows.

• Cost per passenger trip.

• Cost per passenger mile.

Freight Measures. Freight and goods movement measures include:

• Planning time index and travel time variance, as described under Traffic Measures, but measured specifically for freight trips.

• Point to point travel times on selected freight-significant routes.

• Hours of delay per 1,000 vehicle miles on selected freight-significant routes.

• Number of bobtail truck trips (i.e., empty truck without a load).

• Truck travel time between origin and destination.

• Truck emissions.

• Idle time at terminals.

Other Measures. Other measures of interest include:

• Accessibility or livability measures on a region-wide basis that may include metrics such as the percentage of population with total commute times less than a set parameter, both by travel mode and overall. Comments and input are sought for appropriate measures.

• Environmental measures, such as fuel use per passenger mile or ton-mile of freight and greenhouse gas emissions per passenger mile or ton-mile of freight.

• Pavement conditions such as snow or ice cover, slippery conditions, surface roughness, or pothole detection.

• Weather-related transportation management such as time to restore to bare pavement, or time to return to pre-event travel speeds after a weather event.

Summary of Questions

A summary of the specific questions posed in this notice follows. Responders are reminded that feedback or comments on any aspect of this notice is welcomed from all interested public, private, and academic entities. While all feedback is welcomed, the DOT is particularly interested in feedback on the following questions. Respondents may respond, to some, all, or none of these specific questions.

1. Based on the nature of the performance measurement demonstration(s), DOT believes that a multimodal cooperative effort involving both private sector and public sector organizations will be required. The DOT currently envisions awarding one or more contracts to private sector organization(s) as the lead organization(s) in partnership with public transportation agencies and other entities appropriate to develop and conduct the demonstration(s). An alternative would be to conduct a competitive grant program and award one or more grants to public sector organization(s) as the lead(s) organization, engaging and involving other entities as appropriate. Academic institutions are welcomed as team members; however, DOT does not envision an academic institution serving as the lead. Feedback is requested on these procurement options and issues including the challenges in forming the teams as either a lead organization or as a partner or other participant. What forms or demonstrations of commitment by the participants are reasonable and appropriate requirements of respondents to a solicitation for the performance measurement demonstration program?

2. The DOT envisions the demonstration(s) awarded and commencing in early 2011, with the demonstration's(s') applications beginning operations approximately 6 months of preparation and development. The operational period, results analysis, and publication of final results are anticipated to occur over a period that does not exceed 18 months. Is this schedule too cautious, too ambitious, or about right?

3. Are the identified performance metrics the right ones to focus on? Are there metrics or applications that you would add or delete?

4. The goals of this near-term dynamic mobility demonstration program are to demonstrate the use of IntelliDrive℠ to improve the collection of performance measurement information, and to demonstrate the use of this information to support performance-based management, e.g., through the use of decision support tools. To what extent can the real-time or near real-time collection of performance measures be demonstrated, and to what extent can real-time or near real-time performance-based management applications or tools be demonstrated?

5. There are important advantages to conducting a single demonstration, including concentration of resources and funding, ease of management, and demonstration of integrated applications running in a common environment. At the same time, the breadth of envisioned applications and the desire for a diverse operating environment argue for conducting a small number of smaller demonstrations. Is it feasible to address a majority (if not all) of the goals and environments in a single demonstration project? Can multiple meaningful, smaller demonstrations be conducted if the funding per demonstration is $1,000,000 or less?

6. It is the intent to provide open access to the data collected as part of this demonstration through the IntelliDrive℠ Data Capture and Management program.

a. Do you see value in broadly sharing these data with other researchers?

b. Will such data sharing inhibit participation in the demonstration? If so, what mitigation actions do you recommend to encourage participation?

7. To the greatest extent possible, it is the intent of the Dynamic Mobility Applications Program to make algorithms and source code associated with new applications or applications enhancements funded as a part of these demonstrations to be made freely available under open source agreements.

a. Do you see value in making algorithms and application source code funded by this demonstration program broadly available?

b. Will an open source focus inhibit participation in the demonstration? If so, what mitigation actions do you recommend to encourage participation?

Issued on: August 2, 2010.
Victor M. Mendez,
Administrator.

[FR Doc. 2010-19534 Filed 8-6-10; 8:45 am]

BILLING CODE 4910-22-P